DEPARTMENT OF TRANSPORTATION

Federal Aviation Administration

14 CFR Part 39

[Docket No. FAA-2009-0914; Directorate Identifier 2009-NM-122-AD; Amendment 39-16304; AD 2010-10-25]

RIN 2120-AA64

Airworthiness Directives; Airbus Model A330-200 and -300 Series Airplanes, and Model A340-300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

In the door 2 area, the hat-racks are supplied with a basic wire harness which includes “Oxygen Masks” activation.

In case of a monument installation, the respective non-used hat-rack connections between monument and outer skin are put on stow. It was noticed in production, that the distance between the stowed wire harness and the monument could be too small. This condition, if not corrected, could lead to the short circuit of wires dedicated to oxygen, which, in case of emergency, could result in a large number of passenger oxygen masks not being supplied with oxygen, possibly causing personal injuries.

* * * * *

We are issuing this AD to require actions to correct the unsafe condition on these products.

DATES: This AD becomes effective June 25, 2010.

The Director of the Federal Register approved the incorporation by reference of certain publications listed in this AD as of June 25, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on October 19, 2009 (74 FR 53440). That NPRM proposed to correct an unsafe condition for the specified products. The MCAI states:

In the door 2 area, the hat-racks are supplied with a basic wire harness which includes “Oxygen Masks” activation.

In case of a monument installation, the respective non-used hat-rack connections between monument and outer skin are put on stow. It was noticed in production, that the distance between the stowed wire harness and the monument could be too small. This condition, if not corrected, could lead to the short circuit of wires dedicated to oxygen, which, in case of emergency, could result in a large number of passenger oxygen masks not being supplied with oxygen, possibly causing personal injuries.

For the reasons described above, this AD requires the modification of the hat rack connectors on stow, and the rerouting of the associated wire harness in case of monument installed in door 2 area.

You may obtain further information by examining the MCAI in the AD docket.

Relevant Service Information

Airbus has issued Mandatory Service Bulletin A340-92-4073, Revision 02, dated October 12, 2009. Revision 02 includes the following changes:

• Adds a note stating that the modification of cable harness 5302VB/5303VB is necessary only if the cable is installed; and

• Makes minor text corrections.

We referred to Airbus Mandatory Service Bulletin A340-92-4073, Revision 01, dated January 13, 2009, as the appropriate source of service information for accomplishing the actions specified in the NPRM (for Model A340-300 series airplanes).

We have revised paragraphs (f)(1), (f)(2), and (h) of this AD to cite Airbus Mandatory Service Bulletin A340-92-4073, Revision 02, dated October 12, 2009. We have added paragraph (f)(3) of this AD to give credit for accomplishment of the actions done in accordance with the Airbus Mandatory Service Bulletin A340-92-4073, Revision 01, dated January 13, 2009; or Airbus Mandatory Service Bulletin A340-92-4073, dated July 10, 2008.

Airbus has also issued Mandatory Service Bulletin A330-92-3070, Revision 02, dated August 19, 2009. Revision 02 includes the following changes:

• Removes airplanes from the effectivity;

• Makes minor text changes;

• Changes the location of wire harness 5315VB/5316VB in Figure 2; and

• Adds a note stating that modification of wire harness 5302VB/5303VB is only necessary if installed.

We referred to Airbus Mandatory Service Bulletin A330-92-3070, Revision 01, dated January 12, 2009, as the appropriate source of service information for accomplishing the actions specified in the NPRM (for Model A330-200 and A330-300 series airplanes).

We have revised paragraphs (f)(1), (f)(2), and (h) of this AD to cite Airbus Mandatory Service Bulletin A330-92-3070, Revision 02, dated August 19, 2009. We have added paragraph (f)(3) to give credit for accomplishment of the actions done in accordance with Airbus Mandatory Service Bulletin A330-92-3070, dated July 10, 2008; or Airbus Mandatory Service Bulletin A330-92-3070, Revision 01, dated January 12, 2009.

Comments

We gave the public the opportunity to participate in developing this AD. We considered the comments received.

Support for the NPRM

Air Line Pilots Association (ALPA), International supports the NRPM.

Request To Extend Compliance Time

Northwest Airlines (NWA) requests that we extend the proposed compliance time for the modification specified in paragraph (f) of the NPRM from within 24 months to within 24 months for locations where monuments are installed, and for other specified locations, to within 72 months or at the time of a new monument installation, whichever occurs first. NWA explains that its Model A330 airplanes have a monument installed in only one of the four locations specified in the service information, and that according to paragraph (e) of the NPRM, the unsafe condition only exists at locations where there is a monument installed. NWA reasons that allowing a later compliance time for those areas without monuments would allow operators to accomplish the required actions while access is available to the monuments during normally scheduled maintenance.

We do not agree to extend the compliance time specified in paragraph (f) of the final rule for door-2 locations without an installed monument. This AD requires modification of non-used hat-rack connections between the monument and outer skin only for door-2 areas where a monument is installed, as specified in the Accomplishment Instructions of Airbus Mandatory Service Bulletin A330-92-3070, Revision 02, dated August 19, 2009; or Airbus Mandatory Service Bulletin A340-92-4073, Revision 02, dated October 12, 2009; which ensures the clearance between the wire harnesses and the monument. The service bulletins also specify airplane configurations and the actions for each configuration. There are no actions required for those door-2 areas without monuments. We have clarified paragraph (f)(1) of this AD by adding the phrase “for airplanes on which a monument is installed in the door-2 area, as specified in Airbus Mandatory Service Bulletin A330-92-3070, Revision 02, dated August 19, 2009; or Airbus Mandatory Service Bulletin A340-92-4073, Revision 02, dated October 12, 2009.”

Request To Revise Proposed Costs of Compliance

NWA requests that we revise the Cost of Compliance section of the NPRM to portray the cost to operators as though all four locations require a monument installation. NWA explains that airplanes configured with only a single lavatory require 57 labor hours for removal, installation, and testing. If an operator were to have a monument installation at each of the four locations, NWA asserts that the labor hours could be as high as 241 hours for an airplane configured with three lavatories and a video control center.

We agree to revise the Cost of Compliance section of the final rule to portray the cost to operators as though all four locations require a monument installation. As the service information indicates, time to get access to the modified area should be included in the cost, with respect to operators having to perform a monument installation at all four locations. We are adding 3 work-hours to NWA's estimate of 241 work-hours to account for the modification. Also, the number of affected products of U.S. registry is now 32. We have revised the Costs of Compliance section of the final rule accordingly.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Explanation of Change to Costs of Compliance

Since issuance of the NPRM, we have increased the labor rate used in the Costs of Compliance from $80 per work-hour to $85 per work-hour. The Costs of Compliance information, below, reflects this increase in the specified hourly labor rate.

Costs of Compliance

We estimate that this AD will affect 32 products of U.S. registry. We also estimate that it will take about 244 work-hours per product to comply with the basic requirements of this AD. The average labor rate is $85 per work-hour. Required parts costs are negligible. Where the service information lists required parts costs that are covered under warranty, we have assumed that there will be no charge for these parts. As we do not control warranty coverage for affected parties, some parties may incur costs higher than estimated here. Based on these figures, we estimate the cost of this AD to the U.S. operators to be $663,680, or $20,740 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-10-25 Airbus: Amendment 39-16304. Docket No. FAA-2009-0914; Directorate Identifier 2009-NM-122-AD.

Effective Date

(a) This airworthiness directive (AD) becomes effective June 25, 2010.

Affected ADs

(b) None.

Applicability

(c) This AD applies to Airbus Model A330-201, -202, -203, -223, -243, -301, -302, -303, -321, -322, -323, -341, -342, and -343 airplanes; and Airbus Model A340-311, -312, and -313 airplanes; certificated in any category; all manufacturer serial numbers on which Airbus Modification 48825 has been embodied in production, except those on which Airbus Modification 57409 has been embodied in production.

Subject

(d) Air Transport Association (ATA) of America Code 92.

Reason

(e) The mandatory continuing airworthiness information (MCAI) states:

In the door 2 area, the hat-racks are supplied with a basic wire harness which includes “Oxygen Masks” activation.

In case of a monument installation, the respective non-used hat-rack connections between monument and outer skin are put on stow. It was noticed in production, that the distance between the stowed wire harness and the monument could be too small. This condition, if not corrected, could lead to the short circuit of wires dedicated to oxygen, which, in case of emergency, could result in a large number of passenger oxygen masks not being supplied with oxygen, possibly causing personal injuries.

For the reasons described above, this AD requires the modification of the hat rack connectors on stow, and the rerouting of the associated wire harness in case of monument installed in door 2 area.

Actions and Compliance

(f) Unless already done, do the following actions.

(1) For airplanes on which a monument is installed in the door 2 area, as specified in Airbus Mandatory Service Bulletin A330-92-3070, Revision 02, dated August 19, 2009; or Airbus Mandatory Service Bulletin A340-92-4073, Revision 02, dated October 12, 2009: Within 24 months after the effective date of this AD, modify both the left-hand (L/H) and right-hand (R/H) hat-rack connectors, in accordance with the Accomplishment Instructions of Airbus Mandatory Service Bulletin A330-92-3070, Revision 02, dated August 19, 2009; or Airbus Mandatory Service Bulletin A340-92-4073, Revision 02, dated October 12, 2009; as applicable; except as provided by paragraphs (f)(2) and (f)(3) of this AD.

(2) Modifications done before the effective date of this AD, in accordance with the Accomplishment Instructions of Airbus Mandatory Service Bulletin A330-92-3070 or A340-92-4073, both dated July 10, 2008, as applicable, are acceptable for compliance with the applicable requirements of paragraph (f)(1) of this AD, provided that within 24 months after the effective date of this AD, the “ADDITIONAL WORK” specified in the Accomplishment Instructions of Airbus Mandatory Service Bulletin A330-92-3070, Revision 01, dated January 12, 2009, or Revision 02, dated August 19, 2009; or Airbus Mandatory Service Bulletin A340-92-4073, Revision 01, dated January 13, 2009, or Revision 02, dated October 12, 2009; as applicable; is accomplished.

(3) Modifying both the L/H and R/H hat-rack connectors is also acceptable for compliance with the requirements of paragraph (f)(1) of this AD if done before the effective date of this AD in accordance with the Accomplishment Instructions of Airbus Mandatory Service Bulletin A330-92-3070, Revision 01, dated January 12, 2009; or Airbus Mandatory Service Bulletin A340-92-4073, Revision 01, dated January 13, 2009.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency Airworthiness Directive 2009-0077, dated April 6, 2009; Airbus Mandatory Service Bulletin A330-92-3070, Revision 02, dated August 19, 2009; and Airbus Mandatory Service Bulletin A340-92-4073, Revision 02, dated October 12, 2009; for related information.

Material Incorporated by Reference

(i) You must use Airbus Mandatory Service Bulletin A330-92-3070, Revision 02, dated August 19, 2009; or Airbus Mandatory Service Bulletin A340-92-4073, Revision 02, dated October 12, 2009; as applicable; to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on May 6, 2010.
Ali Bahrami,
Manager, Transport Airplane Directorate, Aircraaft Certification Service.

[FR Doc. 2010-11740 Filed 5-20-10; 8:45 am]

BILLING CODE 4910-13-P